NATIONAL AERONAUTICS AND SPACE ADMINISTRATION

[Notice: (19-015)]

NASA Advisory Council; STEM Engagement Committee; Meeting

AGENCY: National Aeronautics and Space Administration.

ACTION: Notice of meeting.

SUMMARY: In accordance with the Federal Advisory Committee Act, Public Law 92-463, as amended, the National Aeronautics and Space Administration announces a meeting of the Science, Technology, Engineering and Mathematics (STEM) Engagement Committee of the NASA Advisory Council (NAC). This Committee reports to the NAC.

DATES: Thursday, May 2, 2019, 11:00 a.m.-3:30 p.m., Eastern Time.

ADDRESSES: This is a virtual meeting, available by teleconference and WebEx only.

FOR FURTHER INFORMATION CONTACT: Dr. Beverly Girten, Designated Federal Officer, NAC STEM Engagement Committee, NASA Headquarters, Washington, DC 20546, (202) 358-0212, or beverly.e.girten@nasa.gov.

SUPPLEMENTARY INFORMATION: This meeting will be virtual and will be available telephonically and by WebEx only. You must use a touch tone phone to participate in this meeting. Any interested person may dial the toll free access number 844-467-6272 or toll access number 720-259-6462, and then the numeric participant passcode: 423307 followed by the # sign. To join via WebEx, the link is https://nasaenterprise.webex.com/nasaenterprise/j.php?MTID=mbf68ae42d1f1a8e144866521f81e03df, the meeting number is 909 063 505 and the password is NACStem2$ (Password is case sensitive.) Note: If dialing in, please “mute” your telephone. The agenda for the meeting will include the following:

—Opening Remarks by Chair

—STEM Education Advisory Panel

—STEM Engagement Update

—National Space Council Meeting Update

—Findings and Recommendations to the NASA Advisory Council

—Other Related Topics

It is imperative that the meeting be held on this date to accommodate the scheduling priorities of the key participants.

Patricia Rausch,
Advisory Committee Management Officer, National Aeronautics and Space Administration.

[FR Doc. 2019-07314 Filed 4-11-19; 8:45 am]

BILLING CODE 7510-13-P